DEPARTMENT OF ENERGY

Federal Energy Regulatory Commission

Combined Notice of Filings #1

Take notice that the Commission received the following electric corporate filings:

Docket Numbers: EC18-91-000.

Applicants: NextEra Energy Transmission Midatlantic, LLC.

Description: Application for Authorization Under Section 203 of the Federal Power Act and Request for Expedited Action of NextEra Energy Transmission Midatlantic, LLC.

Filed Date: 5/7/18.

Accession Number: 20180507-5194.

Comments Due: 5 p.m. ET 5/29/18.

Take notice that the Commission received the following exempt wholesale generator filings:

Docket Numbers: EG18-83-000.

Applicants: Heartland Divide Wind Project, LLC.

Description: Notice of Self-Certification of Exempt Wholesale Generator Status of Heartland Divide Wind Project, LLC.

Filed Date: 5/8/18.

Accession Number: 20180508-5111.

Comments Due: 5 p.m. ET 5/29/18.

Take notice that the Commission received the following electric rate filings:

Docket Numbers: ER18-1416-000.

Applicants: CED Wistaria Solar, LLC.

Description: Supplement to April 23, 2018 CED Wistaria Solar, LLC tariff filing [Exhibit B].

Filed Date: 5/2/18.

Accession Number: 20180502-5188.

Comments Due: 5 p.m. ET 5/23/18.

Docket Numbers: ER18-1539-000.

Applicants: PacifiCorp.

Description: § 205(d) Rate Filing: Tooele Non-Conforming SGIA to be effective 4/16/2018.

Filed Date: 5/7/18.

Accession Number: 20180507-5172.

Comments Due: 5 p.m. ET 5/29/18.

Docket Numbers: ER18-1540-000.

Applicants: NorthWestern Corporation.

Description: § 205(d) Rate Filing: SA 305 11th Rev—NITSA with Stillwater Mining Company to be effective 7/1/2018.

Filed Date: 5/8/18.

Accession Number: 20180508-5001.

Comments Due: 5 p.m. ET 5/29/18.

Docket Numbers: ER18-1541-000.

Applicants: Southwest Power Pool, Inc.

Description: Compliance filing: AEP Transcos Formula Rate Compliance Filing Pursuant to Order in EL18-63 to be effective 1/1/2018.

Filed Date: 5/8/18.

Accession Number: 20180508-5028.

Comments Due: 5 p.m. ET 5/29/18.

Docket Numbers: ER18-1542-000.

Applicants: American Electric Power Service Corporation, Southwest Power Pool, Inc.

Description: § 205(d) Rate Filing: AEP Formula Rate Revisions to be effective 1/1/2018.

Filed Date: 5/8/18.

Accession Number: 20180508-5049.

Comments Due: 5 p.m. ET 5/29/18.

Docket Numbers: ER18-1543-000.

Applicants: PacifiCorp.

Description: § 205(d) Rate Filing: Avangrid Const Agmt for Klamath Metering to be effective 7/9/2018.

Filed Date: 5/8/18.

Accession Number: 20180508-5063.

Comments Due: 5 p.m. ET 5/29/18.

Docket Numbers: ER18-1544-000.

Applicants: Transource West Virginia, LLC, PJM Interconnection, L.L.C.

Description: eTariff filing per 1450: Transource WV submits revisions to OATT, Att H-26 re: 3/15/2018 Order in EL18-70 to be effective 1/1/2018.

Filed Date: 5/8/18.

Accession Number: 20180508-5067.

Comments Due: 5 p.m. ET 5/29/18.

Docket Numbers: ER18-1545-000.

Applicants: Southern California Edison Company.

Description: Tariff Cancellation: Notice of Cancellation LA Gabriel Solar 1 & 2 Projects SA Nos. 966-967 to be effective 4/25/2018.

Filed Date: 5/8/18.

Accession Number: 20180508-5083.

Comments Due: 5 p.m. ET 5/29/18.

Docket Numbers: ER18-1546-000.

Applicants: AEP Appalachian Transmission Company, Inc., AEP Indiana Michigan Transmission Company, Inc., AEP Kentucky Transmission Company, Inc., AEP Ohio Transmission Company, Inc., AEP West Virginia Transmission Company, Inc., PJM Interconnection, L.L.C.

Description: eTariff filing per 1450: AEP submits revisions to OATT, Att H-20B Part I re: Tax Reform EL18-62 to be effective 1/1/2018.

Filed Date: 5/8/18.

Accession Number: 20180508-5118.

Comments Due: 5 p.m. ET 5/29/18.

Docket Numbers: ER18-1547-000.

Applicants: The Dayton Power and Light Company, PJM Interconnection, L.L.C.

Description: eTariff filing per 1450: Dayton submits revisions to OATT Att. H-15 re: Order to Show Cause EL18-117 to be effective 3/21/2018.

Filed Date: 5/8/18.

Accession Number: 20180508-5148.

Comments Due: 5 p.m. ET 5/29/18.

Docket Numbers: ER18-1548-000.

Applicants: Seguro Energy Partners, LLC.

Description: Baseline eTariff Filing: Application For Market Based Rate to be effective 7/9/2018.

Filed Date: 5/8/18.

Accession Number: 20180508-5152.

Comments Due: 5 p.m. ET 5/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2018.
Nathaniel J. Davis, Sr.,
Deputy Secretary.

[FR Doc. 2018-10183 Filed 5-11-18; 8:45 am]

BILLING CODE 6717-01-P